DEPARTMENT OF LABOR

Employment and Training Administration

Determinations Regarding Eligibility To Apply for Trade Adjustment Assistance

In accordance with Sections 223 and 284 (19 U.S.C. 2273 and 2395) of the Trade Act of 1974 (19 U.S.C. 2271, et seq.) (“Act”), as amended, the Department of Labor herein presents summaries of determinations regarding eligibility to apply for trade adjustment assistance under Chapter 2 of the Act (“TAA”) for workers by (TA-W) issued during the period of July 1 2021 through July 31 2021.

This notice includes summaries of initial determinations such as Affirmative Determinations of Eligibility, Negative Determinations of Eligibility, and Determinations Terminating Investigations of Eligibility within the period. If issued in the period, this notice also includes summaries of post-initial determinations that modify or amend initial determinations such as Affirmative Determinations Regarding Applications for Reconsideration, Negative Determinations Regarding Applications for Reconsideration, Revised Certifications of Eligibility, Revised Determinations on Reconsideration, Negative Determinations on Reconsideration, Revised Determinations on remand from the Court of International Trade, and Negative Determinations on remand from the Court of International Trade.

Affirmative Determinations for Trade Adjustment Assistance

The following certifications have been issued.

TA-W No. | Workers' firm | Location | Reason(s)
96609 | Wabel Tool Company | Decatur, IL | Customer Imports of Articles.
96753 | Baylor Scott & White Health | All Cities, TX | Shift in Services to a Foreign Country.
96763 | Georgia-Pacific Consumer Operations LLC | Easton, PA | Customer Imports of Articles.
96821 | South Coast Lumber Company | Brookings, OR | ITC Determination.
96830 | Eaton Corporation | Wilsonville, OR | Customer Imports of Articles.
96849 | Kari-Out LLC dba Kari-Out Company | Brookneal, VA | Customer Imports of Articles.
96884 | Vestas Blades America, Inc | Windsor, CO | Shift in Production to a Foreign Country.
96900 | National Instruments | Austin, TX | Shift in Production to a Foreign Country.
96910 | Globe Metallurgical Inc | Beverly, OH | ITC Determination.
96917 | Hanesbrands, Inc | Stuart, VA | Shift in Production to a Foreign Country.
96922 | CSG Systems, Inc | Elkhorn, NE | Shift in Services to a Foreign Country.
96925 | Albea Cosmetics America, Inc | Morristown, TN | Shift in Production to a Foreign Country.
96928 | Granges Americas, Inc | Newport, AR | ITC Determination.
96929 | AVENTICS Corporation | Lexington, KY | Shift in Production to a Foreign Country.
96931 | Worthington Industries | Worthington, OH | ITC Determination.
96933 | Eaton Corporation | Hastings, NE | Shift in Production to a Foreign Country.
96941 | Nichols Aluminum LLC | Lincolnshire, IL | ITC Determination.
96942 | HERE North America, LLC | Chicago, IL | Acquisition of Services from a Foreign Country.
96943 | Molded Fiber Glass | Aberdeen, SD | Company Imports of Articles.
96946 | Clarios, LLC | Middletown, DE | Company Imports of Articles.
96949 | Evergy LLC | Paris, TN | Shift in Production to a Foreign Country.
96952 | Solstice Sleep Products Inc | Columbus, OH | ITC Determination.
96956 | U.S. Bank, National Association | Oshkosh, WI | Acquisition of Services from a Foreign Country.
96961 | Mississippi Silicon LLC | Burnsville, MS | ITC Determination.
96968 | Jacobs Engineering Group Inc | Englewood, CO | Shift in Services to a Foreign Country.
96969 | The Anthem Companies, Inc | Columbus, OH | Shift in Services to a Foreign Country.
96971 | Vector USA, Inc | Kentland, IN | Shift in Production to a Foreign Country.
96972 | Golden Aluminum | Fort Lupton, CO | ITC Determination.
96973 | Ashley Furniture Industries, LLC | Saltillo, MS | ITC Determination.
96974 | Ashley Furniture Industries, LLC | Verona, MS | ITC Determination.
96975 | Capital Bedding, Inc | Verona, MS | ITC Determination.
96984 | The Mosaic Company | Lithia, FL | ITC Determination.
96987 | Champion Technologies Inc | Eugene, OR | Shift in Production to a Foreign Country.
96992 | Elite Comfort Solutions, LLC | Verona, MS | ITC Determination.
96993 | FXI, Inc | Baldwyn, MS | ITC Determination.
96994 | AT&T Services, Inc | Oakton, VA | Acquisition of Services from a Foreign Country.
96999 | Old West Mattress Company LLC | Aurora, CO | ITC Determination.
97001 | Mylan Technologies, Inc | Swanton, VT | Secondary Component Supplier.
97008 | Salt Lake Mattress and Manufacturing Company DBA Serta Restonic, Sunset Apparel, Sunset Manufacture | Salt Lake City, UT | ITC Determination.
97009 | Purple Innovation, Inc | Lehi, UT | ITC Determination.
97010 | Comfort Revolution, LLC | Belmont, MS | ITC Determination.
97012 | Symbol Mattress of Mississippi | Olive Branch, MS | ITC Determination.
97014 | SSB Manufacturing Company, a wholly-owned subsidiary of Serta Simmons Bedding, LLC | Aurora, CO | ITC Determination.
97024 | Corsicana Bedding, LLC | Aurora, IL | ITC Determination.
97034 | Serta Simmons Bedding Manufacturing Company, a wholly owned subsidiary of Serta Simmons Bedding LLC | Riviera Beach, FL | ITC Determination.
97036 | Anthem Companies, Inc | Richmond, VA | Shift in Services to a Foreign Country.
97037 | Anthem Companies, Inc | Norfolk, VA | Shift in Services to a Foreign Country.
97041 | Innocor, Inc | West Chicago, IL | ITC Determination.
97042 | Anthem Companies, Inc | Denver, CO | Shift in Services to a Foreign Country.
97055 | Collins Aerospace | Everett, WA | Secondary Component Supplier.
97057 | WindKits LLC | Allentown, PA | Shift in Production to a Foreign Country.
97069 | Serta Simmons Bedding, LLC | Windsor Locks, CT | ITC Determination.
97082 | AT&T Services, Inc | Chicago, IL | Acquisition of Services from a Foreign Country.
97084 | Globe Metallurgical Inc | Niagara Falls, NY | ITC Determination.
97087 | Triumph Composites Systems, Inc | Spokane, WA | Shift in Production to a Foreign Country.
97089 | Spartech, LLC | Greenville, OH | ITC Determination.
97090 | Tekni-Plex Inc | Holland, OH | ITC Determination.
97097 | Octal Extrusion Corp | Cincinnati, OH | ITC Determination.
97098 | JPMorgan Chase & Co | Jersey City, NJ | Shift in Services to a Foreign Country.
97101 | EasyPak | Vernon, CA | ITC Determination.
97102 | General Mills, Inc | Golden Valley, MN | Shift in Services to a Foreign Country.
97110 | Pactiv LLC | Santa Fe Springs, CA | ITC Determination.
97114 | American Pacific Plastic Fabricators Inc | Garden Grove, CA | ITC Determination.
97115 | Carpenter Co | Riverside, CA | ITC Determination.
97117 | Elite Comfort Solutions, LLC, a subsidiary of Leggett & Platt Incorporated | Ontario, CA | ITC Determination.
97118 | Royal Pedic Mattress Manufacturing, LLC | Wilmington, CA | ITC Determination.
97119 | Tempur Sealy International, Inc | Richmond, CA | ITC Determination.
97120 | Future Foam, Inc | Newton, KS | ITC Determination.

Negative Determinations for Trade Adjustment Assistance

The following investigations revealed that the eligibility criteria for TAA have not been met for the reason(s) specified.

TA-W No. | Workers' firm | Location | Reason(s)
95617 | Bluestone Coke, LLC | Birmingham, AL | No Shift in Production or Other Basis.
96810 | Jeld-Wen, Inc | Chiloquin, OR | No Sales or Production Decline or Other Basis.
96822 | XPO Logistics Supply Chain, Inc | Hazelwood, MO | No Shift in Services or Other Basis.
96833 | ICC Northwest, Inc | Canby, OR | No Sales or Production Decline or Other Basis.
96840 | Kobelco Construction Machinery USA, Inc | Moore, SC | No Shift in Production or Other Basis.
96848 | Clarios, LLC | Florence, SC | No Shift in Services or Other Basis.
96875 | NewPark Drilling Fluids, LLC | Denver, CO | No Shift in Production or Other Basis.
96939 | Ethan Allen Global, Inc | Danbury, CT | No Employment Decline or Threat of Separation or ITC.
96966 | D6 Inc | Portland, OR | No Shift in Production or Other Basis.
97061 | Katerra, Inc | Centennial, CO | No Shift in Services or Other Basis.

Determinations Terminating Investigations for Trade Adjustment Assistance

The following investigations were terminated for the reason(s) specified.

TA-W No. | Workers' firm | Location | Reason(s)
97039 | Tempur Sealy International Inc. (Mattress Firm) | Plainfield, IL | Petitioner Requests Withdrawal.
97058 | Henkel Corporation | Kansas City, MO | Existing Certification in Effect.
98003 | Malteurop North America, Inc | Milwaukee, WI | Ongoing Investigation in Process.

Revised Certifications of Eligibility

The following revised certifications of eligibility to apply for TAA have been issued.

TA-W No. | Workers' firm | Location | Reason(s)
93882 | Harley-Davidson Motor Company Operations, Inc | Kansas City, MO | Worker Group Clarification.

Revised Determinations on Reconsideration

The following revised determinations on reconsideration, certifying eligibility to apply for TAA, have been issued.

TA-W No. | Workers' firm | Location | Reason(s)
95932 | Triumph Aerospace Structures | Tulsa, OK | Imports of Finished Articles Containing Like or Directly Competitive Components.

Negative Determinations on Reconsideration

The following negative determinations on reconsideration have been issued because the eligibility criteria for TAA have not been met for the reason(s) specified.

TA-W No. | Workers' firm | Location | Reason(s)
95329 | General Motors LLC | Detroit, MI | No Shift in Services or Other Basis.

Negative Determinations on Remand From the Court of International Trade

In the following cases, negative determinations on remand have been issued because the eligibility criteria for TAA have not been met for the reason(s) specified.

TA-W No. | Workers' firm | Location | Reason(s)
94578 | Michigan Bell Telephone Company | Kalamazoo, MI | No Shift in Services or Other Basis.
94578A | Wisconsin Bell, Inc | Appleton, WI | No Shift in Services or Other Basis.
94578B | Indiana Bell Telephone Company Incorporated | Indianapolis, IN | No Shift in Services or Other Basis.
94578C | AT&T Services, Inc | Syracuse, NY | No Shift in Services or Other Basis.
94578D | AT&T Services, Inc | Meridian, CT | No Shift in Services or Other Basis.

I hereby certify that the aforementioned determinations were issued during the period of July 1 2021 through July 31 2021. These determinations are available on the Department's website https://www.dol.gov/agencies/eta/tradeact under the searchable listing determinations or by calling the Office of Trade Adjustment Assistance toll free at 888-365-6822.

Signed at Washington, DC, this 10th day of August 2021.
Hope D. Kinglock,
Certifying Officer, Office of Trade Adjustment Assistance.

[FR Doc. 2021-17766 Filed 8-18-21; 8:45 am]

BILLING CODE 4510-FN-P